SMALL BUSINESS ADMINISTRATION

[License No. 01/01-0434]

Seacoast Capital Partners IV, L.P.; Notice Seeking Exemption Under Section 312 of the Small Business Investment Act, Conflicts of Interest

Notice is hereby given that Seacoast Capital Partners IV, L.P., 55 Ferncroft Road, Suite 110, Danvers, MA, a Federal Licensee under the Small Business Investment Act of 1958, as amended (“the Act”), in connection with the financing of a small concern, has sought an exemption under section 312 of the Act and section 107.730, Financings which Constitute Conflicts of Interest of the Small Business Administration (“SBA”) Rules and Regulations (13 CFR 107.730). Seacoast Capital Partners IV, L.P. proposes to provide financing to Avenger Flight Group, LLC, 1450 Lee Wagener Blvd., Fort Lauderdale, FL 33315 (“AVF”).

The financing is brought within the purview of § 107.730(a) and (d) of the Regulations because Seacoast Capital Partners III, L.P., an Associate of Seacoast Capital Partners IV, L.P., owns more than ten percent of Avenger Flight Group, LLC, and therefore this transaction is considered a financing of an Associate requiring prior SBA approval.

Notice is hereby given that any interested person may submit written comments on the transaction, within fifteen days of the date of this publication, to the Associate Administrator for Investment, U.S. Small Business Administration, 409 Third Street SW, Washington, DC 20416.

Bailey DeVries,
Associate Administrator, Office of Investment and Innovation, U.S. Small Business Administration.

[FR Doc. 2024-00010 Filed 1-4-24; 8:45 am]

BILLING CODE P